DEPARTMENT OF TRANSPORTATION

Coast Guard

[USCG-2001-11228]

Commercial Fishing Industry Vessel Advisory Committee

AGENCY: Coast Guard, DOT.

ACTION: Notice of meeting.

SUMMARY: The Commercial Fishing Industry Vessel Advisory Committee (CFIVAC) will meet to discuss various issues relating to commercial vessel safety in the fishing industry. The meetings are open to the public.

DATES: CFIVAC will meet on Wednesday, February 6, 2002, from 9 a.m. to 5 p.m. and February 7, 2002, from 9 a.m. to 5 p.m. The meeting may close early if all business is finished. Requests to make oral presentations should reach the Coast Guard on or before January 16, 2002. Written material for distribution at the meeting should reach the Coast Guard on or before January 23, 2002. Requests to have a copy of your material distributed to each member of the committee should reach the Coast Guard on or before January 9, 2002.

ADDRESSES: CFIVAC will meet in the Nassif Building, Department of Transportation Building, Room 3328, 400 7th Street, SW., Washington, DC, 20593. Send written material and requests to make oral presentations to Captain Jon Sarubbi, Commandant (G-MOC), U.S. Coast Guard Headquarters, 2100 Second Street SW., Washington, DC 20593-0001. This notice is available on the Internet at http://dms.dot.gov.

FOR FURTHER INFORMATION CONTACT: Captain Jon Sarubbi, Executive Director of CFIVAC, or David Beach, Assistant to the Executive Director, telephone (202) 267-0505, fax (202) 267-0506.

SUPPLEMENTARY INFORMATION: Notice of the meeting is given under the Federal Advisory Committee Act, 5 U.S.C. App. 2.

Agenda of Meeting

The agenda includes the following:

(1) Introduction, recognition of newly appointed committee members, and approval of last meeting's minutes.

(2) Status report from the Coast Guard on legislative change proposal process and regulatory projects with respect to mandatory exams, training requirements, stability requirements, and immersion suit requirements.

(3) Status report from the Coast Guard on casualty data, statistics, and the Coast Guard's new database for Marine Safety.

(4) Presentation by the Society of Naval Architects and Marine Engineers (SNAME) on their ad hoc committee to improve fishing vessel operator understanding of vessel stability and watertight integrity.

(5) Discussions of industry roles and concerns under the new national security posture.

(6) Discussions and working group sessions by the committee on mandatory exams, security requirements, stability requirements, and regionalization issues.

Procedural

The meeting is open to the public. Please note that the meeting may close early if all business is finished. At the Chair's discretion, members of the public may make presentations during the meeting. If you would like to make an oral presentation at the meeting, please notify the Executive Director no later than January 16, 2002. Written material for distribution at the meeting should reach the Coast Guard no later than January 23, 2002. If you would like a copy of your material distributed to each member of the committee in advance of the meeting, please submit 25 copies to the Executive Director no later than January 9, 2002.

Information on Services for Individuals With Disabilities

For information on facilities or services for individuals with disabilities or to request special assistance at the meeting, contact the Executive Director as soon as possible.

Dated: December 21, 2001.
Paul J. Pluta,
Assistant Commandant for Marine Safety and Environmental Protection.

[FR Doc. 01-32029 Filed 12-28-01; 8:45 am]

BILLING CODE 4910-15-P